DEPARTMENT OF HEALTH AND HUMAN SERVICES

National Institutes of Health

Submission for OMB Review; 30-Day Comment Request: Community Evaluation of the National Diabetes Education Program's Diabetes HealthSense Web Site

SUMMARY: Under the provisions of Section 3507(a)(1)(D) of the Paperwork Reduction Act of 1995, the National Institute of Diabetes and Digestive and Kidney Diseases (NIDDK), the National Institutes of Health (NIH) has submitted to the Office of Management and Budget (OMB) a request for review and approval of the information collection listed below. This proposed information collection was previously published in the Federal Register on August 5, 2013, pages 47326 and 47327 and allowed 60-days for public comment. There was one public comment. The comment conveyed broad discontent with the government's use of money and the department's involvement in diabetes prevention. An acknowledgement of receipt and a statement of appreciation was sent in response to this comment. The purpose of this notice is to allow an additional 30 days for public comment. The National Institutes of Health may not conduct or sponsor, and the respondent is not required to respond to, an information collection that has been extended, revised, or implemented on or after October 1, 1995, unless it displays a currently valid OMB control number.

Proposed Collection: Community Evaluation of the National Diabetes Education Program's Diabetes HealthSense Web Site. 0925-NEW, National Institute of Diabetes and Digestive and Kidney Disease (NIDDK), National Institutes of Health (NIH).

Need and Use of Information Collection: This study will be a multi-component 3-year evaluation of Diabetes HealthSense, an online compendium of psychosocial and behavioral resources to support lifestyle changes. The required forms will support the following evaluation tasks: (1) Assessing community educators' experience and satisfaction with NDEP resources such as the Diabetes HealthSense Web site; (2) Assess the extent to which, through participation in Diabetes HealthSense educational sessions, community educators can increase their knowledge and ability to promote and use NDEP resources; and (3) Assess the extent to which the Web site, with guided exploration, can facilitate changes in lifestyle to help prevent or manage diabetes. The data collected from this evaluation will provide NDEP with information about how community educators use NDEP-created resources in their communities and whether the Diabetes HealthSense resource has its intended effect on participants. Such data will help inform NDEP's future decisions about the Diabetes HealthSense Web site, including whether to make changes to Diabetes HealthSense, and whether to invest additional resources to support, promote, or expand this resource. Frequency of Response: One time study. Affected Public: Adults with diabetes or at risk of diabetes and educators. Type of Respondents: Adult intervention participants and community educators. The annual reporting burden is outlined in the table below, and the annualized cost to respondents is estimated at: $6,597.15. There are no maintenance or capital costs to respondents to report.

OMB approval is requested for three years. There are no costs to respondents other than their time. The total estimated annualized burden hours are 310.

Estimated Annualized Burden Hours
Form name | Type of respondent | Estimated number of respondents | Estimated number of responses per respondent | Average time per response (in hours) | Estimated total annual burden hours
Participant Pretest | Adult intervention participants | 200 | 1 | 20/60 | 67
Participant Posttest | Adult intervention participants | 150 | 1 | 20/60 | 50
Participant Exit Satisfaction Survey | Adult intervention participants | 200 | 1 | 10/60 | 33
Participant Follow-up Interview | Adult intervention participants | 10 | 1 | 1 | 10
Participant Pretest | Adult comparison group participants | 250 | 1 | 20/60 | 83
Participant Posttest | Adult comparison group participants | 150 | 1 | 20/60 | 50
Community Educator Pre Interview | Community educators | 5 | 1 | 1 | 5
Community Educator Post Interview | Community educators | 5 | 1 | 1 | 5
Intervention Participant Recruitment Guide | Community educators | 5 | 2 | 15/60 | 4
Comparison Participant Recruitment Guide | Community educators | 10 | 1 | 15/60 | 3

Request for Comments: Written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs, New Executive Office Building, Room 10235, Washington, DC 20503, Attention: Desk Officer for NIH. To request more information on the proposed project or to obtain a copy of the data collection plans and instruments, contact: Joanne Gallivan, M.S., R.D., Director, National Diabetes Education Program, NIDDK, NIH, Building 31, Room 9A06, 31 Center Drive, Bethesda, MD 20892, or call non-toll-free number (301) 494-6110 or email your request, including your address to: Joanne_Gallivan@nih.gov.

Comments Due Date: Comments regarding this information collection are best assured of having their full effect if received within 30 days of the date of this publication.

Dated: December 17, 2013.
Ruby N. Akomeah,
Project Clearance Liaison, NIDDK, National Institutes of Health.

[FR Doc. 2014-00460 Filed 1-13-14; 8:45 am]

BILLING CODE 4140-01-P